DEPARTMENT OF COMMERCE

National Oceanic and Atmospheric Administration

[RTID 0648-XE659]

New England Fishery Management Council; Public Meetings

AGENCY: National Marine Fisheries Service (NMFS), National Oceanic and Atmospheric Administration (NOAA), Commerce.

ACTION: Notice of public meetings.

SUMMARY: The New England Fishery Management Council (Council) is holding four regional workshops to hear and discuss feedback from the public on their vision of the Atlantic Sea Scallop Fishery. Workshop summaries will be presented at a future Council meeting.

DATES: These meetings will be held between Thursday, February 27, 2025, and Tuesday, March 25, 2025. See SUPPLEMENTARY INFORMATION for more details on specific dates and times.

ADDRESSES: See SUPPLEMENTARY INFORMATION for more details on specific addresses.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

1. Thursday, February 27, 2025, 1 p.m.-4 p.m. Samoset Resort, 220 Warrenton Street, Rockland, ME 04856.

2. Tuesday, March 4, 2025, 10 a.m.-4 p.m. Whaling Museum, 18 Johnny Cake Hill, New Bedford, MA 02740.

3. Thursday, March 13, 2025, 10 a.m.-4 p.m. Windsor Suites, 1700 Benjamin Franklin Parkway, Philadelphia, PA 19103.

4. Monday, March 24, 2025, 1 p.m.-4 p.m. Webinar only, register here: https://nefmc-org.zoom.us/meeting/register/8ZXSgPKtRo21Tbz3KABgQQ.

Agenda

The Council is holding three in-person workshops and a webinar to solicit input from the public on their vision for the Atlantic Sea Scallop Fishery to help inform the development of a 3-5 year strategic plan for managing the scallop fishery. This plan will be used by the Council to develop work schedules and allocate resources needed to make changes to the fishery management plan (FMP). Community and public input are essential to the development of goals and objectives that will be included in the Council's strategic plan for the scallop fishery.

Although non-emergency issues not contained on the agenda may come before this Council for discussion, those issues may not be the subject of formal action during these meetings. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Cate O'Keefe, Executive Director, at 978-465-0492, at least 5 days prior to the meeting date.

Authority: 16 U.S.C. 1801 et seq.

Dated: February 6, 2025.
Rey Israel Marquez,
Acting Deputy Director, Office of Sustainable Fisheries, National Marine Fisheries Service.

[FR Doc. 2025-02501 Filed 2-11-25; 8:45 am]

BILLING CODE 3510-22-P